FEDERAL COMMUNICATIONS COMMISSION

Public Information Collection Approved by Office of Management and Budget

March 13, 2003.

AGENCY: Federal Communications Commission.

ACTION: Notice.

SUMMARY: The Federal Communications Commission has received Office of Management and Budget (OMB) approval for the public information collection FCC Form 303-S, Application for Renewal of Broadcast Station license (3060-0110). Therefore, the Commission announces that OMB 3060-0110 is effective March 13, 2003.

DATES: Effective March 13, 2003.

FOR FURTHER INFORMATION CONTACT: Jim Bradshaw, 202-418-2700.

SUPPLEMENTARY INFORMATION: The Federal Communications Commission has received OMB approval for the March 2003 edition of the FCC Form 303-S, Application for Renewal of Broadcast Station License. The effective date for use of the revised form is March 13, 2003. Through this document, the Commission announces that it has received this approval; OMB Control No. 3060-0110.

Pursuant to the Paperwork Reduction Act of 1995, Public Law 96-511. An agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Les Smith, Federal Communications Commission, (202) 418-0217.

Federal Communications Commission.
Marlene H. Dortch,
Secretary.

[FR Doc. 03-7620 Filed 3-28-03; 8:45 am]

BILLING CODE 6712-01-P